DEPARTMENT OF TRANSPORTATION

Coast Guard

[USCG 2001-9433]

Information Collection Under Review by the Office of Management and Budget (OMB): 2115-0619

AGENCY: Coast Guard, DOT.

ACTION: Request for comments.

SUMMARY: In compliance with the Paperwork Reduction Act of 1995, this request for comments announces that the Coast Guard has forwarded one Information Collection Report (ICR) abstracted below to OMB for review and comment. Our ICRs describe the information we seek to collect from the public. Review and comment by OMB ensure that we impose only paperwork burdens commensurate with our performance of duties.

DATES: Please submit comments on or before August 30, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of complete ICRs are available for inspection and copying in public dockets. A copy of this complete ICR is available in docket USCG 2001-9433 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OMB. The Coast Guard has already published [66 FR 20704 (April 24, 2001)] the 60-day notice required by OMB. That notice elicited no comments.

Request for Comments

The Coast Guard invites comments on the proposed collection of information to determine whether the collection is necessary for the proper performance of the functions of the Department. In particular, the Coast Guard would appreciate comments addressing: (1) The practical utility of the collection; (2) the accuracy of the Department's estimated burden of the collection; (3) ways to enhance the quality, utility, and clarity of the information that is the subject of the collection; and (4) ways to minimize the burden of the collection on respondents, including the use of automated collection techniques or other forms of information technology.

Comments, to DMS or OIRA, must contain the OMB Control Number of the ICR addressed. Comments to DMS must contain the docket number of this request, USCG 2001-9433. Comments to OIRA are best assured of having their full effect if OIRA receives them 30 or fewer days after the publication of this request.

Information Collection Requests

1. Title: Inflatable Personal Flotation Devices (PFDs) for Recreational Vessels

OMB Control Number: 2115-0619.

Type of Request: Extension of a currently approved collection.

Forms: This collection of information does not require the public to fill out Coast Guard forms, but does require manufacturers of PFDs to place labels on these devices.

Abstract: The information collected under 46 CFR subpart 160.076 mainly concerns the labeling and preparation of manuals for inflatable PFDs. 33 CFR 175.15 requires that every person using a recreational vessel carry enough PFDs for each person on board. In keeping with this requirement, the Coast Guard has established a system for approval of PFDs for use on such vessels. To facilitate approval and inspection, the Coast Guard requires that manufacturers place labels on their devices and publish manuals to help the users. The labels serve two purposes. First, they indicate the chest size of each PFD and also display printed and pictographic instructions for proper use and care of it. Second, because they include specific product numbers and manufacturers' names, they are central to the Coast Guard's mission of identifying faulty equipment and then notifying the responsible producer. Like the labels, the manuals serve two purposes. First, they give the users information they will need to properly use and maintain the PFDs. Second, they keep the Coast Guard current on the specifications and design of new PFDs.

Affected Public: Manufacturers of PFDs.

Annual Estimated Burden Hours: The estimated burden is 1,406 hours a year.

Dated: July 25, 2001.
V.S. Crea,
Director of Information and Technology.

[FR Doc. 01-19041 Filed 7-30-01; 8:45 am]

BILLING CODE 4910-15-U